DEPARTMENT OF ENERGY

[Docket No. EA-178-A]

Application To Export Electric Energy; Citizens Power Sales LLC

AGENCY: Office of Fossil Energy, DOE.

ACTION: Notice of application.

SUMMARY: Citizens Power Sales LLP (CP Sales) has applied for renewal of its authority to transmit electric energy from the United States to Mexico pursuant to section 202(e) of the Federal Power Act.

DATES: Comments, protests or requests to intervene must be submitted on or before April 28, 2000.

ADDRESS: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-2793.

SUPPLEMENTARY INFORMATION: On May 29, 1998, the Office of Fossil Energy (FE) of the Department of Energy (DOE) authorized CP Sales to transmit electric energy from the United States to Mexico as a power marketer using the international electric transmission facilities of San Diego Gas and Electric Company, El Paso Electric Company, Central Power and Light Company and Comision Federal de Electricidad, the national electric utility of Mexico. That two-year authorization will expire on May 29, 2000. On March 21, 2000, CP Sales filed an application with FE for renewal of this export authority and requested that the Order be issued for a 5-year term.

DOE notes that the circumstances described in this application are virtually identical to those for which export authority had previously been granted in FE Order EA-178. Consequently, DOE believes that it has adequately satisfied its responsibilities under the National Environmental Policy Act of 1969 through the documentation of a categorical exclusion in the FE Docket EA-178 proceeding.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on CP Sales' request to export to Mexico should be clearly marked with Docket EA-178-A. Additional copies are to be filed directly with Jolanta Sterbenz, Hogan & Hartson L.L.P., 555 Thirteenth Street, NW, Washington, DC 20006-1109 and Donald S. McCauley, Senior Vice President and General Counsel, Citizens Power LLC, 160 Federal Street, Boston, Massachusetts 02110-1776.

Copies of this application will be made available, upon request, for public inspection and copying at the address provided above or by accessing the Fossil Energy Home Page at http://www.fe.doe.gov. Upon reaching the Fossil Energy Home page, select “Electricity” then “Pending Proceedings” from the options menus.

Issued in Washington, DC, on March 22, 2000.
Anthony J. Como,
Manager, Electric Power Regulation, Office of Coal & Power Im/Ex, Office of Coal & Power Systems, Office of Fossil Energy.

[FR Doc. 00-7760 Filed 3-28-00; 8:45 am]

BILLING CODE 6450-01-P